OFFICE OF MANAGEMENT AND BUDGET

Audits of States, Local Governments, and Non-Profit Organizations; Circular A-133 Compliance Supplement

AGENCY: Executive Office of the President, Office of Management and Budget.

ACTION: Notice of availability of the 2000 Circular A-133 Compliance Supplement.

SUMMARY: On May 17, 1999 (64 FR 26793), the Office of Management and Budget (OMB) issued a notice of availability of the 1999 Circular A-133 Compliance Supplement. The notice also offered interested parties an opportunity to comment on the 1999 Circular A-133 Compliance Supplement. OMB did not receive any comments. The 2000 Supplement has been updated to add 23 additional programs, updated for program changes, and makes technical corrections. A list of changes to the 2000 Supplement can be found at Appendix 5 of the supplement. Due to its length, the 2000 Supplement is not included in this Notice. See Addresses for information about how to obtain a copy. OMB intends to annually review, revise and/or update this supplement.

This notice also offers interested parties an opportunity to comment on the 2000 Supplement.

DATES: The 2000 Supplement will apply to audits of fiscal years beginning after June 30, 1999 and supersedes the 1999 Supplement. All comments on the 2000 Supplement should be in writing and must be received by October 31, 2000. Late comments will be considered to the extent practicable.

ADDRESSES: Copies of the 2000 Supplement may be purchased at any Government Printing Office (GPO) bookstore (stock No. 041-001-00544-7). The main GPO bookstore is located at 710 North Capitol Street, NW, Washington, DC 20401, (202) 512-0132. A copy may also be obtained under the Grants Management heading from the OMB home page on the Internet which is located at http://www.whitehouse.gov/OMB.

Comments on the 2000 Supplement should be mailed to the Office of Management and Budget, Office of Federal Financial Management, Financial Standards, Reporting and Management Integrity Branch, Room 6025, New Executive Office Building, Washington, DC 20503. Where possible, comments should reference the applicable page numbers. When comments of five pages or less are sent in by facsimile (fax), they should be faxed to (202) 395-4915. Electronic mail comments may be submitted to tramsey@omb.eop.gov. Please include the full body of the electronic mail comments in the text of the message and not as an attachment. Please include the name, title, organization, postal address, phone number, and E-mail address in the text of the message.

FOR FURTHER INFORMATION CONTACT: Recipients should contact their cognizant or oversight agency for audit, or Federal awarding agency, as may be appropriate in the circumstances. Subrecipients should contact their pass through entity. Federal agencies should contact Terrill W. Ramsey, Office of Management and Budget, Office of Federal Financial Management, Financial Standards, Reporting and Management Integrity Branch, telephone (202) 395-3993.

Joshua Gotbaum,
Executive Associate Director and Controller.

[FR Doc. 00-8221 Filed 4-3-00; 8:45 am]

BILLING CODE 3110-01-P